INTERNATIONAL TRADE COMMISSION

[USITC SE-07-028]

Government in the Sunshine Act Meeting Notice

Agency Holding the Meeting: United States International Trade Commission.

Time and Date: December 19, 2007 at 11 a.m.

Place: Room 101, 500 E Street SW., Washington, DC 20436, Telephone: (202) 205-2000.

Status: Open to the public.

Matters To Be Considered

1. Agenda for future meetings: none.

2. Minutes.

3. Ratification List.

4. Inv. Nos. 701-TA-453 and 731-TA-1136-1137 (Preliminary) (Sodium Nitrite from China and Germany)—briefing and vote. (The Commission is currently scheduled to transmit its determinations to the Secretary of Commerce on or before December 26, 2007; Commissioners' opinions are currently scheduled to be transmitted to the Secretary of Commerce on or before January 3, 2008.)

5. Outstanding action jackets:

(1). Document No. GC-07-225 (Administrative matter).

(2). Document No. GC-07-232 (Proposed rulemaking in regard to section 337 investigations under 19 CFR parts 201 and 210).

In accordance with Commission policy, subject matter listed above, not disposed of at the scheduled meeting, may be carried over to the agenda of the following meeting.

By order of the Commission.
Issued: December 12, 2007.
William R. Bishop,
Hearings and Meetings Coordinator.

[FR Doc. E7-24429 Filed 12-14-07; 8:45 am]

BILLING CODE 7020-02-P